DEPARTMENT OF COMMERCE

Patent and Trademark Office

Submission for OMB Review; Comment Request; Patent Prosecution Highway (PPH) Program

The United States Patent and Trademark Office (USPTO) will submit to the Office of Management and Budget (OMB) for clearance the following proposal for collection of information under the provisions of the Paperwork Reduction Act (44 U.S.C. 35).

Agency: United States Patent and Trademark Office (USPTO).

Title: Patent Prosecution Highway (PPH) Program.

OMB Control Number: 0651-0058.

Form Number(s):

• PTO/SB/20(GLBL/AT/AU/BR/CA/CN/CO/CZ/DE/DK/EP/ES/FI/HU/IL/IS/JP/KR/MX/NI/NO/PH/PL/PT/RU/SG/TW/UK).

• PTO/SB/20(PCT-AT/PCT-AU/PCT-CA/PCT-CN/PCT-EP/PCT-ES/PCT-FI/PCT-IL/PCT-JP/PCT-KR/PCT-NPI/PCT-RU/PCT-SE/PCT-US).

Type of Request: Regular.

Number of Respondents: 8,210.

Average Hours per Response: 2.

Burden Hours: 16,420 hours annually.

Cost Burden: $0.

Needs and Uses: The Patent Prosecution Highway (PPH) is a framework in which an application whose claims have been determined to be patentable by an Office of Earlier Examination (OEE) is eligible to go through an accelerated examination in an Office of Later Examination with a simple procedure upon an applicant's request. By leveraging the search and examination work product of the OEE, PPH programs (1) deliver lower prosecution costs, (2) support applicants in their efforts to obtain stable patent rights efficiently around the world, and (3) reduce the search and examination burden, while improving the examination quality, of participating patent offices.

The forms in this collection allow participants to file in a U.S. application a request to make the U.S. application special under a PPH or PCT-PPH program.

Affected Public: Businesses or other for-profit organizations.

Frequency: On occasion.

Respondent's Obligation: Required to obtain or retain benefits.

This information collection request may be viewed at reginfo.gov. Follow the instructions to view Department of Commerce collections currently under review by OMB.

Written comments may be submitted by any of the following methods:

• Email: InformationCollection@uspto.gov. Include “0651-0058 Patent Prosecution Highway (PPH) Program” in the subject line of the message.

• Mail: Marcie Lovett, Records Management Division Director, Office of the Chief Information Officer, United States Patent and Trademark Office, P.O. Box 1450, Alexandria, VA 22313-1450.

• Federal Rulemaking Portal: http://www.regulations.gov.

Dated: January 21, 2015.
Marcie Lovett,
Records Management Division Director, USPTO, Office of the Chief Information Officer.

[FR Doc. 2015-01392 Filed 1-26-15; 8:45 am]

BILLING CODE 3510-16-P